DEPARTMENT OF TRANSPORTATION

Federal Aviation Administration

14 CFR Part 71

[Docket No. FAA-2020-0766; Airspace Docket No. 20-AWP-38]

RIN 2120-AA66

Modification of Class D and Establishment of Class E Airspace; Hayward, CA

AGENCY: Federal Aviation Administration (FAA), DOT.

ACTION: Final rule.

SUMMARY: This action modifies the Class D airspace, establishes Class E airspace extending upward from the surface and establishes Class E airspace as an extension to the Class D and Class E surface areas at Hayward Executive Airport, Hayward, CA. After a biennial review of the airspace, the FAA found it necessary to amend the existing airspace for the safety and management of Instrument Flight Rules (IFR) operations at this airport. This action updates the airport name, amends the geographical coordinates for Hayward Executive Airport and Metropolitan Oakland International Airport to match the FAA's database and makes a minor editorial change replacing the outdated term Airport/Facility Directory with the term Chart Supplement.

DATES: Effective 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of FAA Order 7400.11E at NARA, email fedreg.legal@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the Agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D airspace, establishes Class E airspace to support IFR operations at Hayward Executive Airport under standard instrument approach and departure procedures at the airport, for the safety and management of aircraft within the National Airspace System. Additionally, an editorial change is being made to the legal description replacing “Airport/Facility Directory” with the term “Chart Supplement” and updating the name of the airport to match the FAA aeronautical database.

History

The FAA published a notice of proposed rulemaking in the Federal Register (85 FR 57170; September 15, 2020) for Docket No. FAA-2020-0766 to amend the Class D surface airspace, establish a Class E surface area and establish a Class E extension to the Class D and Class E surface areas in support of IFR operations. Interested parties were invited to participate in this rulemaking effort by submitting written comments on the proposal to the FAA. One substantive comment was received from an anonymous contributor. The commenter was concerned with the impact an expansion of .5 miles to the Class D would have on controller workload and traffic navigating on the flyway to the west of the Hayward class D. The FAA agrees. The expansion to the Class D was proposed to accommodate expanded circling criteria and update the airspace to the higher standard. However, because the procedures at Hayward have not yet been upgraded the FAA will review the procedures and see if a more acceptable approach can be identified when the circling is updated to include expanded circling. Therefore, the Class D and Class E airspace extending upward from the surface is established within 3.5 miles of Hayward Executive Airport excluding the portion in the Metropolitan Oakland Airspace. In addition, the portion 1.8 miles each side of the 119° bearing is eliminated, as it is no longer needed.

Class D and Class E airspace designations are published in paragraph 5000, 6002 and 6004 of FAA Order 7400.11E, dated July 21, 2020 and effective September 15, 2020, which is incorporated by reference in 14 CFR 71.1. The Class D and Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by removing the Class D extension 1.8 miles each side of the 119° bearing to the southeast, as it is no longer needed for operations.

Class E airspace extending upward from the surface is established within 3.5 miles of Hayward Executive Airport excluding the portion that extends into Metropolitan Oakland International Airport Airspace. These lateral dimensions match the Class D lateral boundary. This provides improved safety for operations within this area when the Airport Traffic Control Tower is not staffed.

Class E airspace as an extension to the Class D and Class E surface areas is established to capture aircraft as they descend through 1,000 feet AGL outside the lateral dimensions of the surface area, while using the RNAV Approach to runway 28L.

In addition, the term Airport Facility/Directory is replaced with Chart Supplement and the name of the Hayward Executive Airport and the geographical coordinates for both Hayward Executive Airport and Metropolitan Oakland International Airport are updated to match the FAA's National Airspace System Resource (NASR) database.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order (E.O.) 12866; (2) Is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July, 21, 2020 and effective September 15, 2020, is amended as follows:

Paragraph 5000 Class D Airspace.

* * * * *

AWP CA D Hayward, CA [Amended]

Hayward Executive Airport, CA

(Lat. 37°39′32″ N, long. 122°07′18″ W)

Metropolitan Oakland International Airport

(Lat. 37°43′17″ N, long. 122°13′16″ W)

That airspace extending upward from the surface to, but not including, 1,500 feet MSL within a 3.5-mile radius of the Hayward Executive Airport, Hayward CA excluding that portion within the Metropolitan Oakland International Airport, Class C airspace. This Class D airspace is effective during the specific dates and times established in advance by a Notice to Airmen. The effective date and time will thereafter be continuously published in the Chart Supplement.

Paragraph 6002 Class E Airspace Designated as Surface Areas.

* * * * *

AWP CA E2 Hayward, CA [New]

Hayward Executive Airport, CA

(Lat. 37°39′32″ N, long. 122°07′18″ W)

Metropolitan Oakland International Airport

(Lat. 37°43′17″ N, long. 122°13′16″ W)

That airspace extending upward from the surface to but not including 1,500 feet MSL within a 3.5-mile radius of the Hayward Executive Airport, Hayward CA excluding that portion within the Metropolitan Oakland International Airport, Class C airspace. This Class E airspace is effective during the specific dates and times established in advance by a Notice to Airmen. The effective date and time will thereafter be continuously published in the Chart Supplement.

Paragraph 6004 Class E Airspace Areas Designated as an Extension to a Class D or Class E Surface Area.

* * * * *

AWP CA E4 Hayward, CA [New]

Hayward Executive Airport, CA

(Lat. 37°39′32″ N, long. 122°07′18″ W)

That airspace extending upward from the surface 1.2 miles each side of the 120° bearing from the Hayward Executive Airport extending from the Class D and E2 airspace 3.5-mile radius to 9 miles from the airport.

Issued in Seattle, Washington, on December 21, 2020.
Brian Ochs,
Acting Group Manager, Operations Support Group, Western Service Center.

[FR Doc. 2020-28637 Filed 12-28-20; 8:45 am]

BILLING CODE 4910-13-P